DEPARTMENT OF COMMERCE

National Oceanic and Atmospheric Administration

15 CFR Part 922

[Docket No. 030613151-3151-01]

Florida Keys National Marine Sanctuary; Establishment of Temporary No-Entry Zone in the White Bank Dry Rocks Area; Correction

AGENCY: National Ocean Service (NOS), National Marine Sanctuary Program.

ACTION: Temporary rule; correction.

SUMMARY: This document corrects coordinates published on July 1, 2003 for a no-entry zone in the Florida Keys National Marine Sanctuary. The no-entry zone was established by a temporary rule and became effective June 26, 2003 until August 25, 2003. That temporary rule created two no-entry zones in the vicinity of White Bank Dry Rocks off of Key Largo to prevent the inadvertent spread by swimmers and snorkelers of infectious agents associated with diseased corals in the two zones. Each no-entry zone is approximately 0.25 square miles in size. This document corrects the coordinates of White Bank South Patch that were incorrectly described in the temporary published on July 1, 2003.

DATES: Effective July 24, 2003 until August 25, 2003.

FOR FURTHER INFORMATION CONTACT: Billy D. Causey, Superintendent, Florida Keys National Marine Sanctuary, (FKNMS), Post Office Box 500368, Marathon, Florida 33050, (305) 743-2467.

SUPPLEMENTARY INFORMATION:

Need for Correction

The temporary rule establishing no-entry zones at White Bank North Patch and White Bank South Patch, off of Key Largo in the Florida Keys National Marine Sanctuary (68 FR 39005; July 1, 2003), contained errors in the coordinates for White Bank South Patch. The correct coordinates are:

White Bank South Patch—

(1) 25 degrees 02.414 seconds N 80 degrees 22.425 seconds W;

(2) 25 degrees 02.446 seconds N 80 degrees 22.267 seconds W;

(3) 25 degrees 02.314 seconds N 80 degrees 22.278 seconds W;

(4) 25 degrees 02.336 seconds N 80 degrees 22.408 seconds W.

Classification

Under 5 U.S.C. 553(b)(B), the Assistant Administrator of the National Ocean Service, NOAA, for good cause, finds that providing prior notice and public procedure thereon with respect to this correction is impracticable and contrary to the public interest. Recent evidence has come to light of an outbreak of infectious coral disease in areas of White Bank Dry Rocks near Key Largo. It is possible that humans entering the waters of the affected areas could inadvertently carry infectious agents to healthy coral reef areas. Infected corals are also most subject to stress from human activities. This action is intended to limit the innocent spread of infectious agents to healthy coral and to reduce stress to corals within the infected areas. As such, further damage to the infected corals as well as to healthy corals outside of the close areas would occur if the prohibition implemented by this rule is delayed to provide prior notice and opportunity for public comment.

Likewise, under 5 U.S.C. 553(d)(3), the Assistant Administrator of the National Ocean Service, NOAA, finds good cause to waive the 30-day delay in effective date for this correction. First, if the correction is delayed for 30 days, significant damage to the living coral resources could result. Further, 30 days are not necessary to give notification to visitors who might use the area in the future to move to other nearby sites. The U.S. Coast Guard will give immediate notification to vessels to stay out of the no-entry zones. Notification will be made by the U.S. Coast Guard via notice to mariners, Sanctuary radio announcements, press releases, press conferences, and with assistance by the U.S. Coast Guard and Sanctuary staff on the water within the area. This correction is effective upon filing at the Office of the Federal Register.

Dated: July 19, 2003.
Jamison S. Hawkins,
Deputy Assistant Administrator for Ocean Services and Coastal Zone Management.

[FR Doc. 03-18933 Filed 7-24-03; 8:45 am]

BILLING CODE 3510-NK-M